OFFICE OF NATIONAL DRUG CONTROL POLICY

Paperwork Reduction Act; 30-Day Notice; Correction

AGENCY: Office of National Drug Control Policy.

The Office of National Drug Control Policy (ONDCP) corrects an error in its 30 day notice published Friday, January 12, 2007 at page 1561. The facsimile number to request additional information is corrected to (202) 295-5571.

Dated: January 12, 2007.
Daniel R. Petersen,
Assistant General Counsel.

[FR Doc. E7-765 Filed 1-19-07; 8:45 am]

BILLING CODE 3180-02-P